DEPARTMENT OF ENERGY

Federal Energy Regulatory Commission

[Docket No. EL08-49-001]

BJ Energy LLC, Franklin Power LLC, GLE Trading LLC, Ocean Power LLC, Pillar Fund LLC v. PJM Interconnection, LLC; Notice Requiring Protective Order

April 24, 2009.

Take notice on April 15, 2009, PJM Interconnection, LLC (PJM) filed a motion requesting the Commission authorize the public release of currently non-public documents of BJ Energy, et al. that PJM filed as part of an answer and request for rehearing in this docket.¹ PJM represented that these documents are covered by a protective order issued by the United States District Court for the Eastern District of Pennsylvania.² PJM attached a copy of the District Court's March 26, 2009 order which provided that “[t]he court's Protective Order does not prohibit FERC from issuing an order declassifying documents submitted to this court under seal.” ³ On April 23, 2009, the BJ Energy, et al. filed an answer, requesting that the Commission deny PJM's motion and maintain the confidentiality of this information.

¹ The request related to: (1) PJM's answer to Tower Companies supplemental answer and amendment of PJM's answer to the complaint filed in this proceeding on March 4, 2009; and (2) PJM's April 15, 2009 filing for clarification and rehearing in this proceeding.

² BJ Energy LLC, et al. v. PJM Interconnection, LLC Protective Order, C.A. No. 08-cv-03649-NS (Jan. 7, 2009).

³ BJ Energy LLC, et al. v. PJM Interconnection, LLC Protective Order, C.A. No. 2:08-cv-03649-NS (March 26, 2009).

Pursuant to Rule 213(c)(5) of the Commission's regulations, 18 CFR 385.213 (c)(5), PJM is required to provide such documents to those parties whose interventions were accepted in the April 2, 2009 order⁴ that request the documents and sign a protective order no less stringent than the one already approved by the District Court.

⁴ BJ Energy LLC v. PJM Interconnection, LLC, 127 FERC ¶ 61,006 (2009).

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E9-10108 Filed 5-1-09; 8:45 am]

BILLING CODE 6717-01-P